DEPARTMENT OF TRANSPORTATION

Maritime Administration

[Docket No. MARAD-2019-0112]

Request for Comments on the Approval of a New Proposed Information Collection: Exercise Breakout 2019 Survey

AGENCY: Maritime Administration, DOT.

ACTION: Notice and request for comments.

SUMMARY: The Maritime Administration (MARAD) invites public comments on our intention to request the Office of Management and Budget (OMB) approval to of a new information collection. The information that will be collected from this survey pertains to merchant mariners training and familiarity with Naval systems and procedures. This survey also gauges the willingness of merchant mariners to sail into harm's way in time of national need. We are required to publish this notice in the Federal Register by the Paperwork Reduction Act of 1995.

DATES: Comments must be submitted on or before September 9, 2019.

ADDRESSES: You may submit comments [identified by Docket No. MARAD-2019-0028] through one of the following methods:

• Federal eRulemaking Portal: http://www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Thanos Perlegas, 202-366-0772, Office of Federal Sealift, Division of Sealift Operation and Emergency Response, Maritime Administration, 1200 New Jersey Avenue SE, Washington, DC 20590, Email: thanos.perlegas@dot.gov. Copies of this collection also can be obtained from that office.

SUPPLEMENTARY INFORMATION: Title: Exercise Breakout 2019 Survey.

OMB Control Number: 2133-NEW.

Type of Request: Approval of a new Information Collection.

Abstract: This survey will be conducted on a voluntary basis and is intended to provide vital information to the Ready Reserve Force Program. This exercise is designed to test MARAD's internal administrative procedures, as well as the coordination necessary for a complete activation of MARAD's Ready Reserve Force (RRF) and the Military Sealift Command (MSC) Surge Sealift Fleet to meet strategic sealift requirements. Periodic testing is necessary in view of the dynamics that affect the RRF program, which include changes in RRF fleet composition, readiness status, ship location as well as changes to the seafaring manpower base. The mariner survey is an integral part of the Breakout Exercise. This survey will be used to measure mariner availability, training and experience.

Respondents: This survey is restricted to Merchant Mariners.

Affected Public: Individuals or Households.

Estimated Number of Respondents: 575.

Estimated Number of Responses: 200.

Estimated Hours per Response: .05.

Annual Estimated Total Annual Burden Hours: 10.

Frequency of Response: Annually.

Authority: The Paperwork Reduction Act of 1995; 44 U.S.C. Chapter 35, as amended; and 49 CFR 1.93.

* * * * *

Dated: July 2, 2019.
By Order of the Maritime Administrator.
T. Mitchell Hudson, Jr.,
Secretary, Maritime Administration.

[FR Doc. 2019-14504 Filed 7-8-19; 8:45 am]

BILLING CODE 4910-81-P